OFFICE OF MANAGEMENT AND BUDGET

Information Initiative “Collecting Information in the Information Age”

AGENCY: Office of Management and Budget, Executive Office of the President.

ACTION: Notice.

SUMMARY: The Office of Information and Regulatory Affairs within the Office of Management and Budget (OMB), with help from a group of Federal agencies, is beginning an initiative to examine how agencies can collect information more effectively and efficiently. The initiative will focus on improving the quality of information agencies collect while minimizing the collection burden, particularly through the use of information technology. Eight Federal agencies are participating in the initiative: the Internal Revenue Service (IRS), the Occupational Health and Safety Administration (OSHA) of the Department of Labor, the Environmental Protection Agency (EPA), the Department of Transportation (DOT), the Health Care Financing Administration (HCFA) of the Department of Health and Human Services (HHS), the Department of Agriculture (USDA), the Student Financial Assistance Agency of the Department of Education (ED), and the Small Business Administration (SBA). The initiative will begin with a public Forum on April 27, 2000. Through a series of Roundtables with stakeholders, each agency will explore ways to improve the quality of data collected, disseminate better information to the public, and reduce burden. The dates, topic and discussion questions for each Roundtable are in the Supplementary Information below. OMB is seeking written or electronic comments from members of the public on the topics and discussion questions. The procedure for submitting comments is in Dates and Addresses below. At a second Forum and in a final report, OIRA will compile the comments received, present the results of the roundtable discussions regarding specific and overall agency collection efforts, and recommend opportunities for further progress in information management and burden reduction.

DATES AND ADDRESSES: The first Forum will be on April 27 in Room 450 of the Eisenhower Executive Office Building (EEOB), Pennsylvania Avenue, Washington, D.C. Roundtables will be held on April 27 and other dates, including April 28, and May 5, 8, 10, and 11. There will be morning and afternoon Roundtables on April 27. Roundtables will be held in the New Executive Office Building, 725 17th Street, NW., and the Indian Treaty Room, EEOB, Washington, DC. Because space may be limited for specific roundtables, OMB recommends that those wishing to participate pre-register to ensure that they can participate in the sessions of their choice. Registration procedures are in the Supplemental Information below. Those not registered will be accommodated as space and time permit. The second forum will be held approximately 90 days after the first Forum.

Written and electronic comments must be received by June 12, 2000. DOT has established an electronic docket at http://dms.dot.gov/ to receive electronic comments. OMB encourages members of the public to submit electronic comments to that site. When you access the site, click on ES Submit. Then click on unregistered user submission. You will see a document submission sheet. Fill in the data elements for submitter, docket ID, operating administration, and document title. The docket ID is 7156. The operating administration (use pull-down window) is OMB. The document title corresponds to a Roundtable and is one of the following:

• ED—Electronic Documentation

• EPA—TRI;

• EPA—RCRA;

• EPA—TSCA;

• EPA—Air;

• HCFA—CMNs;

• HCFA—Provider Enrollment;

• IRS—Self Employed;

• IRS—Employment Tax;

• IRS—Post Filing Burden;

• OSHA—Certifications;

• USDA—SCI.

Type the document title exactly as written here. Then click “enter comment” and type in your comment on screen, or click on attach to attach a file. Click on Help for acceptable file formats. Submit written comments to DOT Dockets, 400 7th St. SW., PL401, Washington, DC 20590. Include the docket ID (7156) and the document title at the top of your comment (for example: docket 7156, HCFA - CMN). Submit comments by fax to 202-493-2251.

FOR FURTHER INFORMATION CONTACT: For further information contact Ronald F. Matzner, Office of Information and Regulatory Affairs, Office of Management and Budget, Room 10202, New Executive Office Building, Washington, DC, 20503. Telephone: (202) 395-4856 or at rmatzner@omb.eop.gov.

SUPPLEMENTARY INFORMATION: The Paperwork Reduction Act of 1995 (PRA) requires OMB to oversee the information collection activities of Federal agencies. Among the purposes of the PRA are to improve data quality, program efficiency, and delivery of services to the public, while minimizing information collection burdens. OMB is charged with responsibility to work with agencies to make their information collections more effective and efficient. To this end, OMB, with help from Federal regulatory agencies, has begun an initiative to examine how agencies can collect information more effectively and efficiently.

Each of the participating agencies will hold a series of roundtables or dialogue sessions with stakeholders. In each Roundtable session, the agency chairing the session will ask participants to address specific topics and issues with respect to a particular information collection or the agency's information collection efforts in general. The participating agencies have chosen information collections and topics that illustrate current agency practices or highlight issues common to government in general. Agencies will use the input and dialogue from stakeholders in their decision making regarding the specific collection initiatives and generally in their efforts to improve data quality, gather and disseminate better information, and reduce burden. OMB will consider the input from stakeholders and the agency responses in its final report. OMB expects that the roundtables will focus on best information collection practices and new uses of technology to help government balance the need for information with the minimization of burden. Special attention may focus on the use of information technology to change significantly the way government obtains information. OMB also expects that agencies may discuss efforts to share information across programs, agencies, and Departments.

The initiative will begin with a public Forum on April 27, 2000, consisting of presentations by senior agency officials and Roundtables. Agency officials first will discuss burden reduction accomplishments to date and current agency initiatives to improve data quality and reduce collection burden. Most participating agencies will then host Roundtable sessions. The IRS will have additional roundtables on May 8 and 11. EPA and HCFA will have Roundtables on April 28 and May 10 respectively.

As of April 4, the following Roundtables have been scheduled:

• EPA—TSCA Electronic Reporting (April 27, 10:30-12:30);

• EPA—RCRA Burden Reduction (April 27, 2-4:30);

• EPA—TRI Certification in Lieu of Full Reporting (April 28, 10-12:30);

• EPA—Consolidated Emissions Reporting and Consolidated Federal Air Rules (April 28, 2-4:30);

• HCFA—Certificates of Medical Necessity for DMEs (April 27, all day);

• HCFA—Provider Enrollment (May 10, all day);

• IRS—Self Employed Tax Burden (April 27, all day);

• IRS—Employment Tax Burden (May 8, all day);

• IRS—Post Filing Burden (May 11, all day);

• OSHA—Certifying Regulatory Compliance (April 27, 10:30-12:30);

• USDA—Service Center Initiative (April 27, 10:30-12:30);

The following is a detailed description of the information collections, topics, issues and questions that will be discussed at each roundtable, arranged in chronological order.

There will be five roundtables on April 27 from 10:30 to 12:30.

EPA—RCRA Streamlining

The Office of Solid Waste (OSW) reviewed all of its RCRA reporting and recordkeeping requirements. It is considering streamlining or eliminating many of them, which could reduce the information collection burden of the program by up to 40%. The key issues to discuss are:

(1) Eliminating or streamlining one third of the 334 notices and reports that facilities send to states or EPA.

(2) Eliminating or streamlining four reporting requirements for the Land Disposal Restrictions Program.

(3) Reducing the frequency of facility self-inspections for hazardous waste tanks from daily to weekly and reducing inspection frequencies for all other treatment units on a case-by-case basis.

(4) Deferring to the OSHA standards for facility emergency response training.

(5) Allowing electronic recordkeeping and reporting.

HCFA—Certificates of Medical Necessity (CMN) for DMEs

HCFA has published a notice in the Federal Register announcing the agency's review of all CMNs (except for oxygen). It is extending the comment period until June 1, 2000 to receive additional input in the Information Initiative. HCFA hopes the roundtable will result in useful information to help it improve the design and administration of CMNs. Key issues are: (1) Practical experience with DMERCs in processing CMNs; (2) the elimination or addition of data elements (Is HCFA collecting the correct information?); (3) the utility of CMN information; (4) the clarity of CMN questions; (5) information technology that can make the collections more efficient and effective; (6) present burden (complexity and time); and (7) reengineering the process (such as getting the physician's signature, ICD-9 codes).

IRS—Self-Employed Tax Burden

Approximately one million new small businesses start up each year. Currently, about 10 million Americans are self-employed full time. This number will continue to climb as information technology changes the way Americans do their work. IRS is reinventing itself to better adapt its services to meet the needs of this dynamic taxpayer segment. In general, the self-employed taxpayer population has substantially higher income and files up to three to four times the number of forms and schedules as wage and investment taxpayers. A majority of self-employed taxpayers (about 88 percent) rely on tax professionals to prepare their income tax forms. Many are savvy technologically—about 65 percent use the World Wide Web to access the Internet. On the other hand, many of the self-employed do not understand tax law requirements, rely on inadequate accounting practices, and struggle with resource and cash flow problems. This roundtable discussion, therefore, will focus on what can be done to help the self-employed comply with tax law requirements while decreasing the amount of time and out-of-pocket costs (burden) these individuals face in preparing and filing their Federal income tax return.

Specific issues to be discussed during this roundtable are:

Identifying Self-Employed Burden

• Is the burden of preparing and filing Federal income tax returns greater on the self-employed taxpayer than on wage and investment taxpayers?

• What are the specific burdens on the self-employed taxpayer?

• Are any of these elements unique to the self-employed taxpayer?

• Identify specific legislative provisions that may cause unnecessary burden on self-employed taxpayers.

• Identify specific elements in IRS procedures and processes that are affecting the most self-employed taxpayers? What processes are costing self-employed taxpayers the most money?

• Identify specific elements in IRS forms and publications that may cause unnecessary burden on self-employed taxpayers.

Process and Form Redesign To Reduce Burden

• Are there any legislation or regulatory changes that would decrease burden?

• Are there any changes in IRS processes and processes that would decrease burden without impacting compliance?

• Are there any changes in forms and publications that would decrease burden?

• What education/outreach efforts are working and what additional efforts are needed to improve self-employed individuals' knowledge of what their responsibility is for filing taxes?

• Are there joint efforts with third parties that could solidify better relations between IRS and the self-employed?

The Role of Tax Professionals in Reducing Burden

• Many self-employed individuals turn to tax professionals to prepare and file their Federal income tax return. What is the role of the tax preparer today? How has this role changed in recent years?

• What special benefits do tax professionals afford the self-employed individual?

• What role may tax professionals play in the future that will help reduce self-employed tax burden?

Technology Issues

Off-the-shelf tax software packages provide self-employed individuals with powerful tools to assist them in preparing and filing their federal income tax returns. But many self-employed individuals do not take advantage of these tools.

• Are there barriers, that IRS can control, that keep self-employed individuals from optimizing their use of tax preparation software?

• What can IRS do to eliminate these barriers?

• How effective have other electronic tools, such as e-filing, been in reducing self-employed tax burden.

• How can information technology be best utilized to reduce self-employed tax preparation and filing burden?

• What policies, business prophecies, and procedures might the IRS change to maximize the benefits of information technology?

• Are there any legislative or regulatory changes needed to optimize the use of technology?

• How can IRS make better use of its Web site for burden reduction?

• What education/outreach is necessary?

OSHA—Certifying Regulatory Compliance

OSHA has reviewed all of its rules and regulations to identify existing information collection requirements, including certification records. After conducting this review, OSHA identified a number of existing provisions in the General Industry, Shipyard Employment, and Construction industry standards which require employers to prepare a certification record to demonstrate regulatory compliance. Employers must prepare and maintain documents confirming that they completed required activities, including: inspecting, testing, and checking equipment; assessing and controlling safety and health hazards; and training employees. OSHA is considering the possibility of revoking some or all of the certification records if it would reduce unnecessary paperwork without diminishing employee protection. OSHA has had discussions with the National Advisory Committee on Occupational Safety and Health, the Advisory Committee on Construction Safety and Health, and the Maritime Advisory Committee on Occupational Safety and Health about the certification records. As part of this forum, OSHA will discuss the recommendations and comment from those Committees and seek input from attendees. The discussion will focus on the following questions:

(1) Should OSHA eliminate some or all of the certification requirements? If so, which?

(2) How much burden reduction will result from the elimination of certification records?

(3) How will employers demonstrate to OSHA that they have complied with a regulatory provision if a certification record is not required?

(4) Will employers forego the required inspections, tests, assessments or training if OSHA does not require written documentation to certify completion of these activities?

(5) Should OSHA retain any specific certification requirements?

(6) Are any existing certification requirements useful to employers for purposes other than documenting compliance with an OSHA standard?

(7) What alternatives to certification are available that employers could use to demonstrate compliance with the required activities (e.g., equipment testing, employee training)?

(8) If certification requirements are revoked, what would be the effect on employee protection?

(9) Are there other paperwork requirements the Agency could eliminate without jeopardizing the safety and health of workers?

(10) Are there any paperwork requirements that hinder employers from using the latest technology to reduce the paperwork burden?

(11) Are there ways to modify existing paperwork requirements that could reduce burden? For example, modifying the frequency of the collection, the contents, or identification of areas of duplication?

(12) Are there services or products the Agency could provide to make it easier to comply with paperwork requirements?

USDA—Service Center Initiative (SCI)

SCI is an effort by USDA's county-based agencies, the Farm Service Agency, Natural Resources Conservation Service and Rural Development to provide one-stop service for farm programs and farm credit, conservation programs, and rural loans and grants. It would allow customers to conduct business, and submit and receive information without visiting a service center. It also would integrate service delivery with that provided by other service providers in the community. The effort will reduce burden by sharing information, eliminating redundancy, reengineering business processes, and reducing office visits and paperwork. Key issues for discussions are building common business and technical architectures; business process reengineering; eliminating redundancy; sharing customer information; privacy and security; and pilot site status. Discussion Topics will include:

1. Are these needs and expectations the right improvements for USDA to target?

2. What service delivery methods used successfully by other public or private enterprises can and should USDA follow?

3. Will providing information and delivering services through the Internet and e-mail be a useful alternative to visiting a service center?

4. What privacy concerns arise from USDA consolidating information from the three agencies onto single computer systems?

5. Given existing budget realities, how should USDA best assist and train staff and customers to empower them to use the Internet and USDA Internet-based services?

6. How should USDA measure success in delivering these services over the Internet?

There will be four Roundtables on April 27 from 2:00 to 4:30.

EPA—Electronic Reporting, Focusing on TSCA

EPA's Office of Prevention, Pesticides, and Toxic Substances has developed electronic technology initiatives for reporting under sections 4, 5, 8(c), 8(d), 8(e), and 12(b) of the Toxic Substances Control Act (TSCA). They also will be used for reporting to the Interagency Testing Committee (ITC), an independent advisory committee to the EPA Administrator that includes 15 U.S. Government organizations. These initiatives use state of the art technologies such as public key infrastructure (PKI) to digitally sign submissions, and portable document format (PDF) and hypertext mark up language (HTML) to submit reports to the EPA over the Internet or on compact discs.

EPA would like to discuss the following with stakeholders:

(1) Does the approach do what EPA intends it to do (i.e. make it easier to use, reduce errors, improve tracking, satisfy company needs)?

(2) What do they think about the system and forms used (i.e., user friendly, help menus, easy to follow, instructions, related guidance)?

(3) Would companies use this optional electronic reporting approach? Why? Why not?

(4) Are incentives available to encourage electronic submission of TSCA data?

(5) How should the Agency measure and account for the burden related to electronic submissions like these? How should the Agency measure and account for other benefits related to this electronic approach, i.e., increased efficiencies for the regulated community, as well as within EPA?

(6) Can EPA reduce related burden further?

(7) Are there other reporting or submission requirements within OPPTS where this approach would help to significantly reduce burden?

(8) Are there new ways to report electronically that OPPTS should consider?

HCFA—CMNs Continues

IRS—Self-Employed Tax Burden Continues

USDA-SUSDA—Service Center Initiative Continues

EPA will have two half-day Roundtables on April 28, one on TRI and the other on Consolidated Air Emissions and Consolidated Federal Air Rules.

EPA—TRI Certification of No Significant Change From Prior Year

The Toxics Release Inventory is a publicly available EPA database that contains information on specific toxic chemical releases and other waste management activities reported annually by facilities in certain industry sectors. A suggestion has been made that some of the facilities that file a Form R should have the option to file a “Certification of No Material Change” in lieu of Form R in alternate years. EPA would like to discuss this suggestion with interested parties. Key issues are:

(1) What qualitative conditions would a facility need to certify had not changed (inputs, production processes, production levels, and waste management practices)?

(2) How much is a “material change” with respect to each qualifying condition?

(3) Should there be a quantitative certification with respect to either total releases or distribution of releases among media?

(4) If a quantitative certification were needed, what would be a simple, verifiable standard? (For example, eligibility could be limited to facilities that did not have more than an X% change in their reported quantities over the past two or three years.)

(5) How much burden reduction would certification yield?

EPA—Consolidated Emissions Reporting and Consolidated Federal Air Rules

A. Regulated facilities submit air pollutant emissions data to the state governments that submit the data to EPA. EPA is considering a Consolidated Emissions Reporting Rule (CERR) to simplify emissions reporting, unify reporting dates, streamline the way states submit this data to EPA, consolidate and harmonize reporting requirements, improve data quality, and minimize overall reporting burden. Key issues for discussion are:

(1) Whether EPA can streamline or simplify the requirements further.

(2) Whether EPA should apply the same streamlining and simplification to new categories of data the Agency needs to collect to support its programs to control fine particles and ozone.

(3) Whether EPA should add hazardous air pollutants to the categories of pollutants for which state reporting is required.

B. Consolidated Federal Air Rule. EPA is also in the final stages of developing a “one-stop” air pollution regulation for the chemical industry. Called the Consolidated Federal Air Rule, this regulation, the first of its kind, will combine all existing air regulations affecting the synthetic organic chemical industry into one streamlined and simplified rule, eliminating duplication and substantially reducing paperwork burden. EPA and the affected industry entered into the process with hopes that the effort could be a model for the consolidation of air rules affecting other industry sectors. EPA and the synthetic organic chemical industry expended an enormous amount of effort and resources developing the rule. The experience has been mixed. While the rule does simplify and reduce paperwork, the effort was so resource intensive and the issues so complex that it calls into question whether it is a useful model for other industries. At the Roundtable, EPA will briefly describe how this new concept works, and will invite discussion whether the concept is likely to prove useful for other industries.

On May 8, the IRS Will Have a Full Day Roundtable on Employment Tax Burden

This roundtable discussion will focus on the burden faced by small businesses and self-employed individuals in preparing and filing their Federal employment tax return. The process of completing IRS Form 941 (Federal Employment Tax Return) is by itself not a major source of burden for small businesses—it's only one page. The real burden is derived from the day-to-day activities, such as completing calculations and record keeping, that supply the numbers needed to fill out the form.

The issues to be discussed during this roundtable session are:

Identifying the Issues

• What are the specific elements of burden associated with preparing and filing Federal employment tax returns?

• Identify specific legislative provisions that may cause unnecessary burden on small businesses and self-employed taxpayers preparing and filing their employment tax return.

• Identify specific elements in IRS procedures and processes that may cause unnecessary burden.

• Identify specific elements in IRS forms and publications that may cause unnecessary burden.

Process Redesign

Two States, Iowa and Montana, have initiated simplified tax and wage reporting processes where one form 941 serves the needs of both the Federal and the state taxing authorities. What can be done at the Federal level to encourage cooperation between the states and the IRS to expand this burden reducing process?

• Is there anything outside of ongoing efforts that you would recommend IRS should consider that would simplify the current employment tax reporting process?

• What outreach efforts would you recommend to encourage greater cooperation among the States, IRS, and the small business community to facilitate such filing?

Other Burden

• When an employer has employees, complying with IRS requirements necessarily involves consideration of other agency rules and procedures. For example, a small business owner must determine if an applicant can work in the US, and if so, at what rate to withhold taxes—if at all. Also, the small business owner must be familiar with Immigration and Naturalization Service rules and procedures. It is often unclear to which agency an employer should refer questions and discuss issues. How can the Federal government work more effectively to minimize the employer's burden and assist the employer to comply with the requirements of all regulatory agencies?

• Proposals have been made for legislation that would allow return free filing for taxpayers who file the Form 1040EZ and 1040A. The IRS would use W-2s, 1099s, and withholding to calculate and send tax bills or refunds to taxpayers, who could accept or challenge the calculation. What would the impact be on employers who would have to obtain information from employees to supply to the IRS? How would this impact the burden of filing employment tax forms?

• Small business owners do not always understand how penalties are assessed and how the amount of the penalty is calculated. How can the IRS disseminate better information to clarify how penalties are assessed?

• As businesses grow they often face new sets of employment tax issues. Adding more employees can often mean that a business will face more payroll tax issues. For example, as a company's payroll increases the number of required tax deposits might also increase and/or the company may be required to electronically transfer payroll information to IRS. What can be done to alleviate this burden?

Using Technology

The IRS provides several options for filing Form 941 using modern technology. IRS implemented TeleFile in 1998. In April, 2000, the IRS introduced 941 e-File.

• What else might the IRS do to maximize the benefit of information technology with respect to employment taxes?

• Are there legislative or regulatory changes that could facilitate greater use of software and the Internet for filing employment tax forms?

• Do you know of any specific problems in IRS' distribution of information about employment tax law changes that may be impeding small business and self-employed taxpayers from receiving necessary information clearly and quickly?

• Tax laws frequently change. Small businesses don't always have the time to keep up with the changes. How can technology be best used to inform small business about tax changes?

• What education/outreach is working and what education/outreach is needed?

• How can IRS make better use of its Web site for burden reduction in this area?

• The IRS is encouraging the electronic filing of Form 941. IRS has a 941 e-file program. It is a relatively new program with specified procedures. Are there additional procedures or formats needed to make it even easier for small business to file online?

• Is there anything else the IRS might do to revise the existing program or add additional options that would maximize the benefits of information technology with respect to employment taxes?

Service Providers

• Many self-employed individuals turn to service providers to prepare and file their Federal employment tax return. What is the role of the service provider today? How has this role changed in recent years?

• What special benefits do service providers afford small business and self-employed taxpayers?

• What role may service providers play in the future that will help reduce small business/self-employed tax burden?

HCFA Will Have a Full Day Roundtable Session on May 10 on Provider Enrollment for Medicare Billing Privileges

HCFA is proposing to revise its provider enrollment forms. It has consulted with the industry, conducted various outreach, including at least one town meeting. In response to the industry input, HCFA has made some changes to the new forms and other aspects of the proposal. Prior to publishing the proposal for agency review and public comment, HCFA would like additional public dialogue on the proposed forms. Drafts of the proposed forms are at http://www.hcfa.gov/regs/prdact95.htm. Key issues are:

(1) Use of three separate forms to target specific providers and suppliers (855 for individual practitioners, 855A for providers billing fiscal intermediaries, and 855B for organizations billing carriers);

(2) Differences between current and proposed forms;

(3) Needs and use of the information; and

(4) Use of information technology.

On May 11, the IRS Will Have a Full Day Roundtable on Post Filing Burden

Post-filing time and out-of-pocket costs incurred by taxpayers in an effort to comply with the existing tax laws have been largely unmeasured. In 1983 Arthur D. Little developed a methodology to measure filing burden. However, no method was developed to measure post-filing burden. The focus of this roundtable discussion will be to assess ways in which post-filing burden can and should be measured.

The issues to be discussed during this roundtable session are:

(1) Defining Post Filing Burden. When does the post-filing process begin? Can post filing burden be initiated by the taxpayer or only by IRS? What specific activities constitute post-filing burden? What is the best way to measure post-filing burden?

(2) Wage and Investment versus Small Business. How is post-filing burden on small businesses and the self employed different from the post-filing burden on wage and investment taxpayers?

(3) New Approaches. Given IRS's mission to provide American taxpayers with quality service by helping them understand and meet their tax responsibilities what processes and procedures do you think IRS can streamline to alleviate post-filing burden? As the IRS restructures, what operational issues should it consider that would reduce small business/self-employed filing burden?

(4) The IRS is conducting a pilot in which qualified tax professionals can discuss taxpayer account issues with IRS customer service representatives by e-mail over the IRS Web site 24 hours a day. How effective is such a program in reducing post-filing burden? How might the IRS maximize the benefit of information technology to minimize post filing burden?

Among the information collections that DOT has chosen for this initiative are two associated with rulemakings that are either proposed or about to be proposed. First, the Department published in the Federal Register on December 9, 1999 (64 FR 69076) a notice of proposed rulemaking (NPRM) to revise the Department's drug and alcohol testing procedures. DOT has held public listening sessions on its proposed rulemaking in Washington DC on March 20 and 21, in Los Angeles, California on March 28, and in Dallas Texas on March 30. Due to the close proximity of the Information Initiative's roundtables to the drug and alcohol sessions, the latter will be treated as part of the Information Initiative in lieu of a roundtable. The Department also will conduct an electronic chat room regarding the drug and alcohol NPRM from April 3 to April 7. The issues discussed and the comments submitted in the drug and alcohol meetings and in the electronic chat room will be considered at the final Forum and in OMB's final report and recommendations. Similarly, the Department expects to publish shortly an NPRM to revise its Motor Carrier Hours of Service. After it is published, DOT intends to hold a series of listening sessions similar to those conducted for the drug and alcohol NPRM. These sessions also will be considered part of the Information Initiative in lieu of a Roundtable.

ED recently has begun a negotiated rulemaking that would reengineer its regulations to make it easier for educational and financial institutions to use electronic technology to document interactions with students and ED. ED expects to conduct a number of stakeholder sessions between now and early summer. These sessions will be part of the Information Initiative.

On May 5, the participating agencies will conduct an interagency roundtable to share best practices and discuss the challenges and opportunities of information technology with respect to information collections. This roundtable will not be open to the public. An agency may hold additional roundtables on one or more of the collections, topics or issues during the month of May if warranted.

OMB recommends that attendees register for the Forum and each roundtable that they wish to attend. Attendees may register by e-mail to rmatzner@omb.eop.gov, or by fax at 202-395-7285. Submit registrations at least 3 working days before the date of a Roundtable. All attendees must provide the following: full name, full mailing address, telephone number, e-mail address, and each roundtable that he or she will attend. If an attendee will attend the Forum held in the EEOB, he or she must also provide his or her date of birth and social security number.

John T. Spotila,
Administrator, Office of Information and Regulatory Affairs.

[FR Doc. 00-10570 Filed 4-27-00; 8:45 am]

BILLING CODE 3110-01-P